CORPORATION FOR NATIONAL AND COMMUNITY SERVICE

Agency Information Collection Activities; Submission to the Office of Management and Budget for Review and Approval; Comment Request; Application Package for Performance Measurement in AmeriCorps

AGENCY: Corporation for National and Community Service.

ACTION: Notice of information collection; request for comment.

SUMMARY: The Corporation for National and Community Service (operating as AmeriCorps) has submitted a public information collection request (ICR) entitled Performance Measurement in AmeriCorps for review and approval in accordance with the Paperwork Reduction Act.

DATES: Written comments must be submitted to the individual and office listed in the ADDRESSES section by May 5, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Dr. Andrea Robles, at 202-510-6292 or by email to arobles@cns.gov.

SUPPLEMENTARY INFORMATION: The OMB is particularly interested in comments which:

• Evaluate whether the proposed collection of information is necessary for the proper performance of the functions of AmeriCorps, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on November 24, 2020 at Vol. 85, No. 227, 74996-74997. This comment period ended January 25, 2021. Two public comments were received from this Notice. Both comments focused on the utility of the data and sharing the information with AmeriCorps programs and State Commissions. We completely agree with these comments and do our best to make the findings available; however, the ability to share the information widely is dependent on our resources.

Title of Collection: Performance Measurement in AmeriCorps.

OMB Control Number: 3045-0094. Type of Review: Renewal.

Respondents/Affected Public: Individuals—AmeriCorps members.

Total Estimated Number of Annual Responses: 80,000.

Total Estimated Number of Annual Burden Hours: 20,000.

Abstract: All members in the three AmeriCorps programs—AmeriCorps State & National, VISTA, and the National Civilian Community Corps (NCCC)—are invited to complete a questionnaire upon completing their service term. The questionnaire asks members about their motivations for joining AmeriCorps, experiences while serving, and future plans and aspirations. Completion of the questionnaire is not required to successfully exit AmeriCorps, receive any stipends, educational awards, or other benefits of service. The purpose of the information collection is to learn more about the member experience and member perceptions of their AmeriCorps experience in order to improve the program. Members complete the questionnaire electronically through the AmeriCorps Member Portal. Members are invited to respond as their exit date nears and are allowed to respond for an indefinite period following the original invitation. AmeriCorps seeks to renew the current information collection. The questionnaire submitted for clearance is unchanged from the previously cleared questionnaire. AmeriCorps also seeks to continue using the currently approved information collection until the revised information collection is approved by OMB. The current application expires on 3/31/2021.

Dated: March 31, 2021.
Andrea Robles,
Research and Evaluation Manager.

[FR Doc. 2021-06941 Filed 4-2-21; 8:45 am]

BILLING CODE 6050-28-P